DEPARTMENT OF THE INTERIOR

Bureau of Land Management

Notice of Public Meeting: Resource Advisory Council to the Boise District, Bureau of Land Management, U. S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held August 29, 2006, beginning at 9 a.m. and adjourning at 5 p.m. at the Boise Foothills Environmental Learning Center, Boise, ID. A field trip is scheduled for the morning hours. Public comment periods will be held after topics on the agenda.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. The agenda and meeting topics will include the following:

• Field Trip to public lands affected by development in the Four Rivers Field Office located around the Boise Valley;

• Review of Action Items from previous RAC meeting;

• Hot Topics;

• Review and discussion of issue papers sent to RAC of planned activities in the District and three Field Offices;

• Subcommittee Reports:

○ OHV & Transportation Management;

○ Sage Grouse Habitat Management;

○ Resource Management Plans (RMPs)

—Bruneau Field Office' Draft RMP-EIS Alternatives

—Update on Draft EIS for the NCA-RMP

○ River and Recreation Management

—Proposed Geographic Footprint for Idaho Recreation RAC's and Structure for Subgroups

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM Coordinator as provided above. Expedited publication is requested to give the public adequate notice.

Dated: July 28, 2006.
Jim Johansen,
Acting District Manager.

[FR Doc. E6-12550 Filed 8-2-06; 8:45 am]

BILLING CODE 4310-GG-P